DEPARTMENT OF COMMERCE

National Oceanic and Atmospheric Administration

RIN 0648-XA328

Pacific Fishery Management Council; Public Meetings

AGENCY: National Marine Fisheries Service (NMFS), National Oceanic and Atmospheric Administration (NOAA), Commerce.

ACTION: Notice of public meetings.

SUMMARY: The Pacific Fishery Management Council (Pacific Council) will convene meetings of the Ecosystem-Based Management Subcommittee (Subcommittee) of the Scientific and Statistical Committee and the Ecosystem Advisory Subpanel (EAS) that are open to the public.

DATES: These work sessions will be held on Tuesday, April 19, 2011 through Thursday, April 21, 2011, with each day beginning at 8:30 a.m. and concluding at 5 p.m., or when business for the day is completed. The Subcommittee will begin on Tuesday, April 19, 2011 and adjourn on Wednesday, April 20, 2011. The EAS will formally join the Subcommittee in a joint session beginning at 10:30 a.m. on Wednesday, April 20, 2011. The EAS session will continue on Thursday, April 21, 2011.

ADDRESSES: The meetings will be held at the Pacific Fishery Management Council, Large Conference Room, 7700 NE. Ambassador Place, Suite 101, Portland, OR 97220; telephone: (503) 820-2280.

FOR FURTHER INFORMATION CONTACT: Mike Burner, Staff Officer; telephone: (503) 820-2280.

SUPPLEMENTARY INFORMATION: Please note, this is not a public hearing; it is a work session for the primary purpose of considering recommendations to the Council on the development of an Ecosystem Fishery Management Plan (EFMP). The Subcommittee session will focus on incorporating ecosystem science into the Council management process. The joint session of the Subcommittee and the EAS will focus on the National Oceanic and Atmospheric Administration's California Current Integrated Ecosystem Assessment. The EAS will also discuss available science and its potential application with the SSC and will develop recommendations on the EFMP's purpose and need, regulatory authority, and management unit species for the June 2011 Council meeting in Spokane, WA.

Although non-emergency issues not contained in the meeting agenda may come before the Subcommittee or the EAS for discussion, those issues may not be the subject of formal action during this meeting. Action will be restricted to those issues specifically listed in this notice and any issues arising after publication of this notice that require emergency action under Section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2280 at least 5 days prior to the meeting date.

Dated: March 24, 2011.
Tracey L. Thompson,
Acting Director, Office of Sustainable Fisheries, National Marine Fisheries Service.

[FR Doc. 2011-7353 Filed 3-28-11; 8:45 am]

BILLING CODE 3510-22-P